DEPARTMENT OF HEALTH AND HUMAN SERVICES

National Institutes of Health

Prospective Grant of Exclusive License: Probe Using Diffuse-Reflectance Spectroscopy

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive worldwide license to practice the invention embodied in DHHS Ref. No. E-309-2000, for which a patent is pending under U.S. Patent Application Serial No. 09/972,700 filed October 5, 2001 entitled “Probe Using Diffuse-Reflectance Spectroscopy,” to Apogee Ventures, Inc., a company having its principle place of business in Washington, DC. The United States of America is the assignee to the patent rights of these inventions.

The contemplated exclusive license may be limited to the field of use of measuring inflammation in oral epithelial tissue.

DATES: Only written comments and/or applications for a license received by the NIH Office of Technology Transfer on or before April 13, 2004 will be considered.

ADDRESSES: Requests for a copy of the patent application, inquiries, comments and other materials relating to the contemplated license should be directed to: Michael A. Shmilovich, J.D., Office of Technology Transfer, National Institutes of Health, 6011 Executive Boulevard, Suite 325, Rockville, MD 20852-3804; Telephone: (301) 435-5019; Facsimile: (301) 402-0220; E-mail: mish@codon.nih.gov. A signed Confidential Disclosure Agreement will be required to receive copies of the patent application.

SUPPLEMENTARY INFORMATION: The patent application covers a device using oblique angle reflectance spectroscopy to non-invasively quantify the thickness of the epithelium as a means for quantifying inflammation. The device can be a toothbrush-sized probe used to direct photon sources at two or more oblique angles and measure the scattered spectra to determine the thickness of the epithelial layer. Analysis of the spectra provides the location of the stroma/epithelium interface. The device provides a non-invasive means for determining the efficacy of drugs used to treat cancerous lesions and promises to replace the need for uncomfortable punch biopsies.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: February 5, 2004.
Steven M. Ferguson,
Director, Division of Technology Development and Transfer, Office of Technology Transfer, National Institutes of Health.

[FR Doc. 04-3164 Filed 2-12-04; 8:45 am]

BILLING CODE 4140-01-P